DEPARTMENT OF TRANSPORTATION

Federal Aviation Administration

14 CFR Part 71

[Docket No. FAA-2006-24813; Airspace Docket No. 06-AAL-16]

Modification of Legal Description of Class D and E Airspace; Fairbanks, Fort Wainwright Army Airfield, AK

AGENCY: Federal Aviation Administration (FAA), DOT.

ACTION: Direct final rule; request for comments.

SUMMARY: The U.S. Army will soon be changing the name of Fort (Ft.) Wainwright Army Airfield (AAF) to Ladd AAF. This action amends the airport name accordingly for each of the Class D and Class E airspace descriptions in FAA Order 7400.9N.

DATES: This direct final rule is effective on 0901 UTC, September 28, 2006. Comments for inclusion in the Rules Docket must be received on or before July 19, 2006.

ADDRESSES: Send comments on this proposal to the Docket Management System, U.S. Department of Transportation, Room Plaza 401, 400 Seventh Street, SW., Washington, DC 20590-0001. You must identify the docket number FAA-2006-24813/Airspace Docket No. 06-AAL-16, at the beginning of your comments. You may also submit comments on the Internet at http://dms.dot.gov. You may review the public docket containing the proposal, any comments received, and any final disposition in person in the Docket Office between 9 a.m. and 5 p.m., Monday through Friday, except Federal holidays. The Docket Office (telephone 1-800-647-5527) is on the plaza level of the Department of Transportation NASSIF Building at the above address.

FOR FURTHER INFORMATION CONTACT: Gary Rolf, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION: The coordinates for this airspace docket are based on North American Datum 83. The Class D airspace and Class E airspace areas designated as 700/1200 foot transition areas are published in paragraph 5000 and 6005 respectively, in FAA Order 7400.9N, Airspace Designations and Reporting Points, dated September 1, 2005, and effective September 15, 2005, which is incorporated by reference in 14 CFR 71.1. The Class D and E airspace designations listed in this document would be published subsequently in the Order. Additionally, the present exclusionary clause listed in the Class E5 description is removed. The exclusionary language is redundant and therefore, unnecessary.

The Direct Final Rule Procedure

The FAA anticipates that this regulation will not result in adverse or negative comment and therefore, is issuing it as a direct final rule. Previous actions of this nature have not been controversial and have not resulted in adverse comments or objections. Unless a written adverse or negative comment, or written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2006-24813/Airspace Docket No. 06-AAL-16.” The postcard will be date/time stamped and returned to the commenter.

Agency Findings

The regulations adopted herein will not have a substantial direct effect on the States, on the relationship between the National Government and the States, or on the distribution of power and responsibilities among the various levels of government. Therefore, it is determined that this final rule does not have federalism implications under Executive Order 13132.

The FAA has determined that this regulation only involves an established body of technical regulations for which frequent and routine amendments are necessary to keep them operationally current. Therefore, this regulation—(1) is not “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it follows the U.S. Army's actions in renaming Wainwright AAF to Ladd AAF and thereby changes the Class E airspace description in FAA Order 7400.9D and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 15, 2005, is amended as follows:

Paragraph 5000 General

* * * * *

AAL AK D Fairbanks, Fort Wainwright, AK [Amended]

Ladd AAF, AK

(Lat. 64°50′11″ N., long. 147°37′01″ W.)

That airspace extending upward from the surface within a 5.3-mile radius of the Ladd AAF airport, excluding the portion north and west of a line from lat. 64°45′14″ N., long. 147°41′16″ W.; to lat. 64°51′10″ N., long. 147°44′09″ W.; to lat. 64°54′48″ N., long. 147°30′57″ W. This Class D airspace area is effective during the specific dates and times established in advance by a Notice to Airmen. The effective date and time will thereafter be continuously published in the Alaska Supplement (Airport/Facility Directory).

* * * * *

Paragraph 6005 Class E Airspace Areas Extending Upward From 700 feet or More Above the Surface of the Earth

* * * * *

AAL AK E5 Fairbanks, Fort Wainwright, AK [Amended]

Ladd AAF, AK

(Lat. 64°50′11″ N., long. 147°37′01″ W.)

Fairbanks VORTAC

(Lat. 64°48′00″ N., long. 148°00′43″ W.)

Chena NDB

(Lat. 64°50′17″ N., long. 147°29′24″ W.)

That airspace extending upward from 700 feet above the surface within a 6.8-mile radius of the Ladd AAF airport and within 3.9 miles each side of the 089° bearing from Chena NDB extending from the 6.8-mile radius to 12.9 miles east of the airport and within 3.8 miles north of the 078° radial from the Fairbanks VORTAC extending from the 6.8-mile radius to 9.9 miles east of the airport.

* * * * *

Issued in Anchorage, AK, on June 8, 2006.
Anthony M. Wylie,
Director, Flight Service Information Office (AK).

[FR Doc. 06-5512 Filed 6-16-06; 8:45 am]

BILLING CODE 4910-13-P